DEPARTMENT OF AGRICULTURE

Office of the Secretary

Black Hills National Forest Advisory Board

AGENCY: Office of the Secretary, USDA.

ACTION: Notice of intent to renew the charter of the Black Hills National Forest Advisory Board.

SUMMARY: The Department of Agriculture is proposing to renew the charter of the Black Hills National Forest Advisory Board (the Board) to obtain advice and recommendations on a broad range of forest issues such as forest plan revisions or amendments, travel management, forest monitoring and evaluation, recreation fees, and site-specific projects having forest-wide implications.

FOR FURTHER INFORMATION CONTACT: Frances Reynolds, Legislative Affairs, Rocky Mountain Region, Forest Service, (303) 275-5357. Individuals who use telecommunication devices for the deaf (TDD) may call the Federal Information Relay Service (FIRS) at 1-800-877-8339 between 8 a.m. and 8 p.m., Eastern Standard Time, Monday through Friday.

SUPPLEMENTARY INFORMATION: Pursuant to the Federal Advisory Committee Act (5 U.S.C. App. II), notice is hereby given that the U.S. Department of Agriculture, Forest Service, intends to renew the charter of the Black Hills National Forest Advisory Board. The Board provides advice and recommendations on a broad range of forest planning issues and in accordance with the Federal Lands Recreation Enhancement Act more specifically will provide advice and recommendations on Black Hills National Forest recreation fee issues. The Board membership consists of individuals representing commodity interests, amenity interests, and State and local government.

The Black Hills National Forest Advisory Board has been determined to be in the public interest in connection with the duties and responsibilities of the Black Hills National Forest. National forest management requires improved coordination among the interests and governmental entities responsible for land management decisions and the public that the agency serves. The Board consists of 16 members that are representative of the following interests (this membership closely follows the membership outlined by the Secure Rural Schools and Community Self Determination Act for Resource Advisory Committees (16 U.S.C. 500, et seq.)):

1. Economic development;

2. Developed outdoor recreation, off-highway vehicle users, or commercial recreation;

3. Energy and mineral development;

4. Commercial timber industry;

5. Permittee (grazing or other land use within the Black Hills area);

6. Nationally recognized environmental organizations;

7. Regionally or locally recognized environmental organizations;

8. Dispersed recreation;

9. Archeology or history;

10. Nationally or regionally recognized sportsmen's groups, such as anglers or hunters;

11. South Dakota state-elected offices;

12. Wyoming state-elected offices;

13. South Dakota or Wyoming county-or local-elected officials;

14. Tribal government elected or- appointed officials;

15. South Dakota State natural resource agency official; and

16. Wyoming State natural resource agency officials.

The Board members determine chair responsibility. The Forest Supervisor of the Black Hills National Forest serves as the designated Federal official under sections 10(e) and (f) of the Federal Advisory Committee Act (5 U.S.C. App. II).

Equal opportunity practices are followed in all appointments to advisory committees. To ensure that the recommendations of the Board have taken into account the needs of diverse groups the Black Hills National Forest serves, membership will include to the extent practicable individuals with demonstrated ability to represent monitories, women, and persons with disabilities.

Dated: June 11, 2009.
Pearlie Reed,
Assistant Secretary of Administration.

[FR Doc. E9-14320 Filed 6-17-09; 8:45 am]

BILLING CODE 3410-11-P